DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed highway safety improvement project along State Route 20, in the Counties of Yuba and Nevada, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 11, 2016. If the Federal law that authorizes judicial review of a claim provides a time period of less than 150 days for filing such claim, then that shorter time period still applies.

FOR FURTHER INFORMATION CONTACT: For Caltrans: Sue Bauer, Branch Chief, Caltrans Office of Environmental Management, M-1, California Department of Transportation, 703 B Street, Marysville, CA 95901, Office Hours: 8:00 a.m.-5:00 p.m., Pacific Standard Time, Telephone (530) 741-4113, Email: sue_bauer@dot.ca.gov.

SUPPLEMENTARY INFORMATION: Effective July 1, 2007, the Federal Highway Administration (FHWA) assigned, and the California Department of Transportation (Caltrans) assumed, environmental responsibilities for this project pursuant to 23 U.S.C. 327. Notice is hereby given that the Caltrans has taken final agency actions subject to 23 U.S.C. 139(l)(1) by issuing licenses, permits, and approvals for the following highway project in the State of California.

The California Department of Transportation proposes to improve safety along State Route 20 (YUB-20 p.m. 20.1/21.7 and NEV-20 p.m. 0.0/0.1) in Yuba and Nevada Counties. The scope of work will include: Realignment of portions of the existing highway to correct non-standard curves and improve sight distance, realignment of county road connections as necessary for proper intersection alignment, construction of new drainage systems as necessary for new alignment segments, drainage improvements as necessary, widening highway shoulders, roadway signing and striping and adding right and left turn pockets at Smartsville Road.

The actions by the Federal agencies, and the laws under which such actions were taken, are described in the Final Environmental Assessment (FEA)/Finding of No Significant Impact (FONSI) for the project, approved on January 29, 2016, and in other documents in the FHWA project records. The FEA, FONSI and other project records are available by contacting Caltrans at the addresses provided above. The Caltrans FEA, FONSI and other project records can be viewed and downloaded from the project Web sites at

www.dot.ca.gov/dist3/departments/envinternet/yuba.htm

www.dot.ca.gov/dist3/departments/envinternet/nevada.htm

This notice applies to all Federal agency decisions as of the issuance date of this notice and all laws under which such actions were taken, including but not limited to:

1. National Environmental Policy Act (NEPA) [42 U.S.C. 4321-4351]; Federal-Aid Highway Act [23 U.S.C. 109 and 23 U.S.C. 128]

2. Section 7 of the Endangered Species Act of 1973 (ESA) [16 U.S.C. 1531-1544 and section 1536]

3. National Historic Preservation Act of 1966, as amended (16 U.S.C. 470(f) et seq.)

4. Clean Air Act [42 U.S.C. 7401-7671 (q)]

5. Clean Water Act [section 404, section 401, section 319]

6. Uniform Relocation Assistance and Real Property Acquisition Act of 1970, as amended

7. Migratory Bird Treaty Act (MBTA) of 1918, as amended

8. Invasive Species, Executive Order 13112

(Catalog of Federal Domestic Assistance Program Number 20.205, Highway Planning and Construction. The regulations implementing Executive Order 12372 regarding intergovernmental consultation on Federal programs and activities apply to this program.)

Authority: U.S.C. 139(l)(1)

Issued on: February 3, 2016.
Cesar E. Perez,
Senior Transportation Engineer, Federal Highway Administration, Sacramento, California.

[FR Doc. 2016-02660 Filed 2-9-16; 8:45 am]

BILLING CODE 4910-22-P